DEPARTMENT OF THE TREASURY

Submission for OMB Review; Comment Request

July 8, 2013.

The Department of the Treasury will submit the following information collection request to the Office of Management and Budget (OMB) for review and clearance in accordance with the Paperwork Reduction Act of 1995, Public Law 104-13, on or after the date of publication of this notice.

DATES: Comments should be received on or before August 12, 2013 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request maybe found at www.reginfo.gov.

Bureau of the Public Debt (BPD)

OMB Number: 1535-0023.

Type of Review: Revision of a currently approved collection.

Title: Request To Reissue United States Savings Bonds.

Form: PD F 4000.

Abstract: The information is requested to support a request to reissue paper (definitive) Series EE, HH, and I United States Savings Bonds, Retirement Plan Bonds, and Individual Retirement Bonds and to indicate the new registration required.

Affected Public: Individuals or Households.

Estimated Annual Burden Hours: 57,500.

OMB Number: 1535-0062.

Type of Review: Extension without change of a currently approved collection.

Title: Special Bond of Indemnity By Purchaser of United States Savings Bonds/Notes Involved in a Chain Letter Scheme.

Form: PD F 2966.

Abstract: The information is requested to support a request for refund of the purchase price of savings bonds purchased in a chain letter scheme and used to identify the securities involved and to issue a refund of the purchase price.

Affected Public: Individuals or Households.

Estimated Annual Burden Hours: 320.

Dawn D. Wolfgang,
Treasury PRA Clearance Officer.

[FR Doc. 2013-16706 Filed 7-11-13; 8:45 am]

BILLING CODE 4810-39-P